DEPARTMENT OF COMMERCE

National Oceanic and Atmospheric Administration

50 CFR Part 300

[Docket No. 110620342-1659-03]

RIN 0648-XC922

International Fisheries; Pacific Tuna Fisheries; 2013 Bigeye Tuna Longline Fishery Closure in the Eastern Pacific Ocean

AGENCY: National Marine Fisheries Service (NMFS), National Oceanic and Atmospheric Administration (NOAA), Commerce.

ACTION: Temporary rule; fishery closure.

SUMMARY: NMFS is closing the U.S. pelagic longline fishery for bigeye tuna in the eastern Pacific Ocean (EPO) as a result of the fishery reaching the 2013 catch limit of 500 metric tons. This action is intended to limit fishing mortality on bigeye tuna caused by longline fishing in the EPO, and contribute to the long-term conservation of bigeye tuna at levels that support healthy fisheries.

DATES: Effective November 11, 2013 through December 31, 2013.

FOR FURTHER INFORMATION CONTACT: Heidi Taylor, NMFS West Coast Region, 562-980-4039.

SUPPLEMENTARY INFORMATION: Pelagic longline fishing in the eastern Pacific Ocean is managed, in part, under the Tuna Conventions Act of 1950 (Act), 16 U.S.C. 951-962. Under the Act, NMFS must publish regulations to carry out recommendations of the Inter-American Tropical Tuna Commission (IATTC) that have been approved by the Department of State (DOS). The United States is a member of the IATTC, which was established under the Convention for the Establishment of an Inter-American Tropical Tuna Commission signed in 1949 (Convention) to provide an international arrangement to ensure the effective international conservation and management of highly migratory species of fish in the Convention Area.

The Convention Area for this purpose is defined to include the waters of the eastern Pacific bounded by the coast of the Americas, the 50° N. and 50° S. parallels, and the 150° W. meridian. Regulations governing fishing by U.S. vessels in accordance with the Act appear at 50 CFR part 300, subpart C. Those regulations implement recommendations of the IATTC for the conservation and management of highly migratory fish resources in the eastern Pacific Ocean.

The IATTC has recommended, and the DOS approved, annual catch limits of bigeye tuna for U.S. longline vessels. For calendar year 2013, the catch and landing of bigeye tuna by longline gear in the Convention Area by fishing vessels of the United States that are over 24 meters in overall length is limited to 500 metric tons (76 FR 68332, November 4, 2011, and codified at 50 CFR 300.25).

NMFS monitored the retained catches of bigeye tuna using logbook data submitted by vessel captains and other available information, and determined that the 2013 catch limit is expected to be reached on or by November 8, 2013. In accordance with 50 CFR 300.25(b), this temporary rule serves as advance notification to fishermen, the fishing industry, and the public that the U.S. longline fishery for bigeye tuna in the Convention Area will be closed starting on November 11, 2013, through the end of the 2013 calendar year. The 2014 fishing year is scheduled to open on January 1, 2014.

During the closure, a U.S. fishing vessel over 24 meters in overall length may not be used to retain on board, transship, or land bigeye tuna captured by longline gear in the Convention Area, except as follows:

• Any bigeye tuna already on board a fishing vessel upon the effective date of the prohibitions may be retained on board, transshipped, and/or landed, to the extent authorized by applicable laws and regulations, provided that they are landed within 14 days after the prohibitions become effective, that is, by November 18, 2013.

• In the case of a vessel that has declared to NMFS that the current trip type is shallow-setting, the 14-day limit is waived, but the number of bigeye tuna retained on board, transshipped, or landed must not exceed the number on board the vessel upon the effective date of the prohibitions, as recorded by the NMFS observer on board the vessel.

• Bigeye tuna caught by longline gear used on a vessel of the United States over 24 meters in the Convention Area may not be transshipped to a fishing vessel unless that fishing vessel is operated in compliance with a valid permit issued under § 660.707 or § 665.801.

• A fishing vessel of the United States over 24 meters, other than a vessel for which a declaration has been made to NMFS that the current trip is shallow-setting, may not be used to fish in the Pacific Ocean using longline gear both inside and outside the Convention Area during the same fishing trip, with the exception of a fishing trip during which the prohibitions were put into effect.

• If a vessel over 24 meters that is not on a declared shallow-set trip is used to fish in the Pacific Ocean using longline gear outside the Convention Area, and the vessel enters the Convention Area at any time during the same fishing trip, the longline gear on the fishing vessel must be stowed in a manner so as not to be readily available for fishing. Specifically, the hooks, branch lines, and floats must be stowed and not available for immediate use, and any power-operated mainline hauler on deck must be covered in such a manner that it is not readily available for use.

Classification

There is good cause to waive prior notice and opportunity for public comment pursuant to 5 U.S.C. 553(b)(B). This action is based on the best available information and is necessary for the conservation and management of bigeye tuna. Compliance with the notice and comment requirement would be impracticable and contrary to the public interest, since NMFS would be unable to ensure that the 2013 bigeye tuna catch limit is not exceeded. The annual catch limit is an important mechanism to ensure that the U.S. complies with its international obligations in preventing overfishing and managing the fishery at optimum yield. Moreover, NMFS previously solicited public comments on the rule that established the catch limit (76 FR 68332, November 4, 2011). For the same reasons, there is good cause to establish an effective date less than 30 days after date of publication of this notice.

This action is required by § 300.25(b) and is exempt from review under Executive Order 12866.

Authority: 16 U.S.C. 951-962 et seq.

Dated: October 31, 2013.
James P. Burgess,
Acting Deputy Director, Office of Sustainable Fisheries, National Marine Fisheries Service.

[FR Doc. 2013-26450 Filed 10-31-13; 4:15 pm]

BILLING CODE 3510-22-P